DEPARTMENT OF ENERGY

Federal Energy Regulatory Commission

Combined Notice of Filings # 1

December 13, 2006.

Take notice that the Commission received the following electric corporate filings:

Docket Numbers: EC07-34-000.

Applicants: Dogwood Energy LLC; MEP Pleasant Hill LLC

Description: Dogwood Energy LLC and MEP Pleasant Hill, LLC submit a joint application for approval of the transfer of jurisdictional facilities and existing generating facilities.

Filed Date: 12/08/2006.

Accession Number: 20061211-0067.

Comment Date: 5 p.m. Eastern Time on Friday, December 29, 2006.

Take notice that the Commission received the following exempt wholesale generator filings:

Docket Numbers: EG07-19-000.

Applicants: High Prairie Wind Farm II, LLC.

Description: High Prairie Wind Farm II, LLC submits a notice of Self-Certification of Exempt Wholesale Generator Status.

Filed Date: 12/07/2006.

Accession Number: 20061207-5060.

Comment Date: 5 p.m. Eastern Time on Thursday, December 28, 2006.

Take notice that the Commission received the following electric rate filings:

Docket Numbers: ER07-188-002; ER99-2774-015; ER03-956-011; ER07-191-002; ER07-189-002; ER07-190-002; ER00-826-008; ER00-828-008; ER98-421-019; ER98-4055-016; ER01-1337-011; ER02-177-012; ER03-1212-010; ER01-1820-010.

Applicants: Duke Energy Carolina, LLC; Duke Energy Trading and Marketing, L.L.C.; Duke Energy Marketing America, LLC; Duke Energy Ohio, Inc.; Duke Energy Indiana, Inc.; Duke Energy Kentucky, Inc.; Brownsville Power I LLC; Caledonia Power I, L.L.C.; CinCap IV, LLC; CinCap V, LLC; Cinergy Capital & Trading, Inc.; Cinergy Power Investments, Inc.; St. Paul Cogeneration, LLC; Cinergy Operating Companies.

Description: Duke Energy Corp et al submit a notice of change in status re their authority to engage in wholesale sales of capacity, energy and ancillary services at market-based rate.

Filed Date: 12/11/2006.

Accession Number: 20061212-0108.

Comment Date: 5 p.m. Eastern Time on Tuesday, January 02, 2007.

Docket Numbers: ER02-2330-045.

Applicants: ISO New England Inc..

Description: ISO New England Inc submits its seventeenth quarterly status report in compliance with FERC's 9/20/02 Order.

Filed Date: 12/11/2006.

Accession Number: 20061212-0114.

Comment Date: 5 p.m. Eastern Time on Tuesday, January 02, 2007.

Docket Numbers: ER05-1497-004.

Applicants: Dearborn Industrial Generation, LLC.

Description: Dearborn Industrial Generation, LLC submits an Errata to its Redlined Comparison Tariff in its final compliance filing pursuant to the Commission's 10/25/06 order.

Filed Date: 12/11/2006.

Accession Number: 20061212-0117.

Comment Date: 5 p.m. Eastern Time on Tuesday, January 02, 2007.

Docket Numbers: ER06-1543-001.

Applicants: Brush Cogeneration Partners.

Description: Brush Cogeneration Partners submits a compliance filing to remove Section 1(a) and additional references to ancillary services in Sections 1 and 2 of its current market-based rate tariff pursuant to the Commission's 11/30/06 order.

Filed Date: 12/11/2006.

Accession Number: 20061212-0109.

Comment Date: 5 p.m. Eastern Time on Tuesday, January 02, 2007.

Docket Numbers: ER07-174-002.

Applicants: Osceola Windpower, LLC.

Description: Osceola Windpower, LLC submits an amendment to its Market-Based Tariff effective 1/2/07.

Filed Date: 12/08/2006.

Accession Number: 20061212-0101.

Comment Date: 5 p.m. Eastern Time on Friday, December 29, 2006.

Docket Numbers: ER07-312-000.

Applicants: Dogwood Energy LLC.

Description: Dogwood Energy LLC submits an Application for Market-Based authorization and Related Waivers and Pre-Approvals and also submits FERC Electric Tariff, Volume 1.

Filed Date: 12/08/2006.

Accession Number: 20061212-0106.

Comment Date: 5 p.m. Eastern Time on Friday, December 29, 2006.

Docket Numbers: ER07-313-000.

Applicants: Pacific Gas and Electric Company.

Description: Pacific Gas and Electric submits an executed Letter of Agreement for RAS Interim Upgrade with the California Department of Water Resources—State Water Project, First Revised Rate Schedule No. 77.

Filed Date: 12/11/2006.

Accession Number: 20061212-0105.

Comment Date: 5 p.m. Eastern Time on Tuesday, January 02, 2007.

Docket Numbers: ER07-314-000.

Applicants: Southwest Power Pool, Inc.

Description: Southwest Power Pool, Inc submits an unexecuted revised Service Agreement for Network Integration Transmission Service with American Electric Power Service Corporation, Southwestern Electric Power Company and Mutual Energy SWEPCO L.P.

Filed Date: 12/11/2006.

Accession Number: 20061212-0116.

Comment Date: 5 p.m. Eastern Time on Tuesday, January 02, 2007.

Docket Numbers: ER07-315-000.

Applicants: PJM Interconnection, L.L.C.

Description: PJM Interconnection, LLC submits an executed Interconnection Service Agreement with Beech Ridge Energy, LLC and Monongahela Power Company.

Filed Date: 12/11/2006.

Accession Number: 20061212-0107.

Comment Date: 5 p.m. Eastern Time on Tuesday, January 02, 2007.

Docket Numbers: ER07-316-000.

Applicants: Avista Corporation.

Description: Avista Corporation submits revisions to its Open Access Transmission Tariff pursuant to order 676.

Filed Date: 12/11/2006.

Accession Number: 20061212-0113.

Comment Date: 5 p.m. Eastern Time on Tuesday, January 02, 2007.

Docket Numbers: ER07-317-000.

Applicants: Allegheny Power.

Description: The Potomac Edison Co dba Allegheny Power submits a Letter Agreement with Old Dominion Electric Cooperative.

Filed Date: 12/11/2006.

Accession Number: 20061212-0110.

Comment Date: 5 p.m. Eastern Time on Tuesday, January 02, 2007.

Any person desiring to intervene or to protest in any of the above proceedings must file in accordance with Rules 211 and 214 of the Commission's Rules of Practice and Procedure (18 CFR 385.211 and 385.214) on or before 5 p.m. Eastern time on the specified Comment Date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-21705 Filed 12-19-06; 8:45 am]

BILLING CODE 6717-01-P